DEPARTMENT OF LABOR

Office of the Secretary

Interim Delegation of Authority and Assignment of Responsibility to Departmental Officials To Invoke Governmental Privileges Pending Official Appointment of Non-Career Agency Leadership

On February 9, 2009, I issued a memorandum to DOL Agency Heads pursuant to Secretary's Order 16-2006 (November 9, 2006) and its accompanying Memorandum (“2006 Memorandum”) and authorities cited therein to temporarily extend delegated authority and assigned responsibility to the incumbents of specified departmental career positions as listed on the attached memorandum, to invoke all appropriate claims of Governmental privileges arising from the functions of their respective agencies and offices. This delegation is effective immediately. A copy of that memorandum is annexed hereto as an Appendix.

FOR FURTHER INFORMATION CONTACT: Ron Whiting or Carol Dedeo, Office of the Solicitor, Department of Labor, 200 Constitution Avenue, NW., Washington, DC 20210, telephone (202) 693-5260. This is not a toll-free number.

Signed at Washington, DC this 10th day of February, 2009.
Edward C. Hugler,
Acting Secretary of Labor.

U.S. Department of Labor

Office of the Secretary

INTERIM SUPPLEMENTAL ATTACHMENT TO SECRETARY'S ORDER 16-2006

February 9, 2009

MEMORANDUM FOR AGENCY HEADS

FROM: EDWARD C. HUGLER, Acting Secretary

SUBJECT: Interim Delegation of Authority and Assignment of Responsibility to Departmental Officials to Invoke Governmental Privileges Pending Official Appointment of Non-career Agency Leadership

This Memorandum is issued pursuant to Secretary's Order 16-2006 (November 9, 2006) and its accompanying Memorandum (“2006 Memorandum”) and authorities cited therein. Those documents were published at 71 FR 67023. This Memorandum serves to supplement on an interim basis that 2006 Memorandum.

Awaiting the arrival of non-career leadership representing the Administration of President Obama, the Department of Labor and its agencies operate currently without interruption, generally under career leadership. Under these circumstances, the purpose of this Memorandum is to temporarily extend delegated authority and assigned responsibility to the incumbents of specified departmental career positions listed below to invoke all appropriate claims of Governmental privileges arising from the functions of their respective agencies and offices.

All formal claims of Governmental privilege asserted as a result of a delegation under this Memorandum will be made in accordance with the requirements and procedures specified in Secretary's Order 16-2006 and the 2006 Memorandum. Each delegation below takes effect immediately and, unless superseded, will cease individually to have effect as soon as an official whose position title is listed or described in the 2006 Memorandum commences his or her duties, but no later than December 31, 2009.

Designation of Agency Officers Delegated Authority and Assigned Responsibility To Assert Governmental Privileges

Office of the Secretary, and any other DOL component not listed below: Deputy Assistant Secretary for Operations in the Office of the Assistant Secretary for Administration and Management

Office of the Solicitor: Deputy Solicitor for National Operations

Employee Benefits Security Administration: Deputy Assistant Secretary for Program Operations

Employment Standards Administration: Deputy Assistant Secretary for Operations

Wage and Hour Division: Deputy Administrator for Enforcement

Office of Labor-Management Standards: Deputy Director

Federal Contract Compliance Programs: Director of Policy

Employment and Training Administration: Deputy Assistant Secretary for Employment and Training

Mine Safety and Health Administration: Deputy Assistant Secretary for Operations

Occupational Safety and Health Administration: Deputy Assistant Secretary

Veterans' Employment and Training Service: Deputy Assistant Secretary for Operations and Management

Office of the Assistant Secretary for Policy: Deputy Assistant Secretary for Operations and Analysis

Office of Congressional and Intergovernmental Affairs: Director of Program Planning & Results in the Office of the Assistant Secretary for Administration and Management

Office of Disability Employment Policy: Deputy Assistant Secretary

Office of Public Affairs: Director of Enterprise Communications

Women's Bureau: National Office Coordinator

[FR Doc. E9-3231 Filed 2-13-09; 8:45 am]

BILLING CODE 4510-23-P